DEPARTMENT OF TRANSPORTATION

Federal Highway Administration

Notice of Final Federal Agency Actions on Proposed Highways in Washington

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(1)(1). These actions relate to a proposed highway project on State Route 28 (Sunset Highway) Eastside Corridor Project in Douglas County, Washington. These actions grant approvals for the project.

DATES: By this notice, the FHWA is advising the public of final agency actions subject to 23 U.S.C. 139(1)(1). A claim seeking judicial review of the Federal agency actions on the highway project will be barred unless the claim is filed on or before January 7, 2008. If the Federal law that authorizes judicial review of a claim provides a time period of less than 180 days for filing such claim, then that shorter time period still applies.

FOR FURTHER INFORMATION CONTACT: Liana Liu, Area Engineer, Federal Highway Administration Washington Division, 711 S. Capital Way, Suite 501, Olympia, WA 98501, 360-753-9553, Liana.Liu@fhwa.dot.gov. Terry Mattson, Project Engineer, Washington State Department of Transportation, P.O. Box 98, Wenatchee, WA 98807-0098, 509-667-2899, mattsot@wsdot.wa.gov.

SUPPLEMENTARY INFORMATION: Notice is hereby given that the FHWA and other Federal agencies have taken final agency actions by issuing approvals for the following highway project in the State of Washington. This project would improve safety and provide congestion relief on State Route 28, Douglas County, Washington. The proposed project provides four lanes and a median divider on SR 28 (Sunset Highway) from the intersection of SR 2/97 to 9th Street, NE., in the City of East Wenatchee. The project also extends Eastmont Avenue from Badger Mountain Road to the intersection of SR 2/97. The SR 2/97 intersection with Sunset Highway is expanded to accommodate additional lanes and tie-in with Eastmont Avenue. The project includes a new interchange on SR 2/97 at Empire Avenue to connect 38th Street, NW., and Cascade Avenue. Other improvements to Sunset Highway include u-turns at two intersections and six new signals. Stormwater facilities are upgraded along the corridor and minor improvements to side streets are included. The actions by the Federal agencies, and the laws under which such actions were taken, are described in the Final Environmental Impact Statement for the project, approved on November 22, 2006, a Record of Decision approved on May 17, 2007, and in other documents in the FHWA administrative record. The Final Environmental Impact Statement and other documents in the FHWA administrative record file are available by contacting the FHWA or the Washington State Department of Transportation at the addresses provided above.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act 42 U.S.C. 7401-7671(q).

3. Wildlife: Endangered Species Act [16 U.S.C. 1531-1544 and Section 1536], Fish and Wildlife Coordination Act [16 U.S.C. 661-667(d)]. Migratory Bird Treaty Act [16 U.S.C. 703-712].

4. Historic and Cultural Resources: Section 106 of the National Historic Preservation Act of 1966, as amended [16 U.S.C. 470(aa) 11]; Archeological Resources Protection Act of 1977 [16 U.S.C. 470(aa)-11]; Archeological and Historic Preservation Act [16 U.S.C. 469-469(c)]; Native American Grave Protection and Repatriation Act (NAGPRA) [25 U.S.C. 3001-3013].

5. Social and Economic: Civil Rights Act of 1964 [42 U.S.C. 2000(d)-2000(d)(1)]; American Indian Religious Freedom Act [42 U.S.C. 1996]; Farmland Protection Policy Act (FPPA) [7 U.S.C. 4201-4209]; The Uniform Relocation Assistance and Real Property Acquisition Policies Act of 1970, as amended.

6. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

7. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to his program.)

Authority: 23 U.S.C. 139(l)(1).

Issued on: July 5, 2007.
Liana L. Liu,
Area Engineer, Federal Highway Administration, Olympia, Washington.

[FR Doc. E7-13409 Filed 7-10-07; 8:45 am]

BILLING CODE 4910-RY-P